NATIONAL SCIENCE FOUNDATION

Committee on Equal Opportunities in Science and Engineering; Notice of Meeting

In accordance with the Federal Advisory Committee Act (Pub. L. 92-463, as amended), the National Science Foundation announces the following meeting:

Name: Committee on Equal Opportunities in Science and Engineering (1173).

Dates/Time: June 5, 2007, 8:30 a.m.—5:30 p.m. and June 6, 2007, 8:30 a.m.—2 p.m.

Place: National Science Foundation, 4201 Wilson Boulevard, Room 1235 S, Arlington, VA 22230.

Type of Meeting: Open.

Contact Person: Dr. Margaret E.M. Tolbert, Senior Advisor and Executive Liaison, CEOSE, Office of Integrative Activities, National Science Foundation, 4201 Wilson Boulevard, Arlington, VA 22230, Telephone: (703) 292-8040, mtolbert@nsf.gov.

Minutes: May be obtained from the Executive Liaison at the above address.

Purpose of Meeting: To provide advice and recommendations concerning broadening participation in science and engineering.

Agenda

Tuesday, June 5, 2007

Welcome and Opening Statement by the CEOSE Chair Introductions

Presentations and Discussions:

• Understanding Interventions That Encourage Minorities to Pursue Research Careers

• The Transformation of CEOSE

• National Science Foundation Broader Impacts Criterion

• Strategic Planning and Broadening Participation

• CEOSE Status Reports

○ Plans for a Minisymposium on Persons with Disabilities

○ Conversations with Representatives of Ten Federal Agencies

○ CEOSE 2006 Biennial Report to Congress

○ Strategic Planning for CEOSE

Wednesday, June 6, 2007

Opening Statement by the New CEOSE Chair Presentations/Discussions:

• Conversations with Selected NSF Assistant Directors

• Discussion with the Director of the National Science Foundation

• Reports by CEOSE Liaisons to National Science Foundation Advisory Committees

• Deliberations on Key Areas of Focus in the Future, Recommendations, and Action Items

Completion of Unfinished Business.

Dated: May 11, 2007.
Susanne Bolton,
Committee Management Officer.

[FR Doc. E7-9383 Filed 5-15-07; 8:45 am]

BILLING CODE 7555-01-P